SURFACE TRANSPORTATION BOARD

[Docket No. FD 36307]

Chicago, Rock Island & Pacific Railroad, LLC—Lease and Operation Exemption—Rail Line of Coahoma County, Miss., Near Swan Lake, Miss.

Chicago, Rock Island & Pacific Railroad, LLC (CRIP), a noncarrier, has filed a verified notice of exemption under 49 CFR 1150.31 to lease and operate approximately 0.25 miles of rail line owned by the County of Coahoma, Miss. (the County), between milepost 103.75 and milepost 104.00 at or near Swan Lake, Miss. (the Segment). CRIP states that the Segment is part of a line that extends approximately 50 miles between Lula, Miss., and Swan Lake (the Line). CRIP states that, at milepost 104.00, the Segment connects to the Illinois Central Railroad Company.

CRIP states that the County consummated abandonment of the Line in 2001 ¹ and thereafter leased the Line to C&J Railroad Co. (C&J), which operated it as a contract carrier. In 2005, C&J obtained an exemption to lease and operate the Segment (but not the rest of the Line) as a common carrier.²

¹ See Cty. Notice of Consummation, July 25, 2001, Cty. of Coahoma, Miss.—Aban. Exemption—in Tallahatchie & Coahoma Ctys., Miss., Docket No. AB 579X.

² See C&J R.R.—Acquis. & Operation Exemption—in Tallahatchie Cty., Miss., FD 34673 (STB served May 6, 2005).

CRIP further states that C&J's lease of the Line from the County was terminated effective on February 8, 2019, and, shortly thereafter, the County leased the Line to CRIP.

Upon consummation of the transaction, CRIP states that it will provide common carrier rail service over the Segment.³

³ CRIP captions its verified notice as a lease and operation exemption but requests that, if the Board were to determine that the verified notice supports an exemption for change in operators on the Segment from C&J to CRIP, the Board “so provide” in this notice. However, because the verified notice does not indicate that CRIP has reached an agreement with C&J for C&J to cease its own operations over the Segment, CRIP's verified notice does not support a change in operators exemption.

According to CRIP, the lease does not include an interchange commitment.

CRIP certifies that its projected revenues as a result of the transaction will not result in the creation of a Class II or Class I rail carrier and will not exceed $5 million.

The earliest this transaction may be consummated is June 21, 2019 (30 days after the verified notice of exemption was filed).

If the verified notice contains false or misleading information, the exemption is void ab initio. Petitions to revoke the exemption under 49 U.S.C. 10502(d) may be filed at any time. The filing of a petition to revoke will not automatically stay the effectiveness of the exemption. Petitions for stay must be filed no later than June 14, 2019 (at least seven days before the exemption becomes effective).

All pleadings, referring to Docket No. FD 36307, must be filed with the Surface Transportation Board either via e-filing or in writing addressed to 395 E Street SW, Washington, DC 20423-0001. In addition, a copy of each pleading must be served on CRIP's representative, Thomas F. McFarland, Thomas F. McFarland, P.C., 208 South LaSalle Street, Suite 1666, Chicago, IL 60604.

According to CRIP, this action is excluded from environmental review under 49 CFR 1105.6(c) and from historic preservation reporting requirements under 49 CFR 1105.8(b)(1).

Board decisions and notices are available at www.stb.gov.

Decided: June 4, 2019.
By the Board, Allison C. Davis, Acting Director, Office of Proceedings.
Kenyatta Clay,
Clearance Clerk.

[FR Doc. 2019-12009 Filed 6-6-19; 8:45 am]

BILLING CODE 4915-01-P